DEPARTMENT OF THE INTERIOR

National Park Service

Draft General Management Plan/Wilderness Management Plan/Draft Environmental Impact Statement, Apostle Islands National Lakeshore, WI

AGENCY: Department of the Interior, National Park Service.

ACTION: Notice of availability of the Draft General Management Plan/Wilderness Management Plan/Draft Environmental Impact Statement, Apostle Islands National Lakeshore, WI.

SUMMARY: Pursuant to Section 102(2)(C) of the National Environmental Policy Act of 1969 (42 U.S.C. 4332(2)(C)), the National Park Service (NPS) announces the availability of the Draft General Management Plan (GMP)/Wilderness Management Plan (WMP)/Environmental Impact Statement (EIS) for Apostle Islands National Lakeshore, Wisconsin.

This document provides a framework for management of Apostle Islands National Lakeshore and the Gaylord Nelson Wilderness, including its resources, visitors, and facilities, for the next 15-20 years. The document describes four alternatives for management of the park, including a no-action alternative, and analyzes the environmental impacts of those alternatives.

The NPS preferred alternative would focus on providing opportunities for more people to have an island experience. Additional transportation opportunities would be sought to encourage visitors to come to Sand, Basswood, and Oak Islands. Some additional visitor facilities would be developed on these islands. There would be no change in the number of public docks in the park, but some docks would be relocated, improved, or expanded. The Bayfield Visitor Center would be moved closer to the water to improve contact with visitors and to be located with an operations center. The Little Sand Bay Visitor Center would be replaced with a visitor contact station. A new ranger station and accessible beach ramp would be developed at Meyers Beach. Two light stations would be restored or rehabilitated, similar to the Raspberry Island light station. The wilderness area would continue to be managed as it is now, with the exception of the Oak Island group campsite being removed and the site restored.

DATES: There will be a 60-day public review period for comments on this document. Comments on the GMP/WMP/EIS must be received no later than 60 days after the Environmental Protection Agency publishes its notice of availability in the Federal Register. Public open houses will be held at Bayfield and Madison, Wisconsin, and in Duluth and the Twin Cities, Minnesota. Specific dates, times, and locations will be announced in the local media, on the Internet at http://www.nps.gov/apis, and will also be available by contacting the park's headquarters at 715-779-3398, extension 102.

ADDRESSES: Copies of the GMP/WMP/EIS will be available for public inspection online at http://parkplanning.nps.gov/apis, by e-mail message at apis_comments@nps.gov, or by request by writing to Mr. Jim Nepstad, Chief of Planning and Resource Management, Apostle Islands National Lakeshore, Route 1, Box 4, Bayfield, WI 54814; telephone: 715-779-3398, extension 102. The document can be picked up in person at the park's headquarters at 415 Washington Avenue, Bayfield, WI.

SUPPLEMENTARY INFORMATION: Persons wishing to comment may do so by any one of several methods. They may attend the open houses noted above. They may comment via the NPS Planning, Environment and Public Comment Web site at http://parkplanning.nps.gov/apis. They may mail comments to Mr. Jim Nepstad, Chief of Planning and Resource Management, Apostle Islands National Lakeshore, Route 1, Box 4, Bayfield, WI 54814. Finally, they may hand-deliver comments to the park headquarters at 415 Washington Avenue, Bayfield, WI.

Before including your address, telephone number, electronic mail address, or other personal identifying information in your comments, you should be aware that your entire comment (including your personal identifying information) may be made publicly available at any time. While you can ask us in your comments to withhold your personal identifying information from public review, we cannot guarantee that we will be able to do so.

FOR FURTHER INFORMATION CONTACT: Mr. Jim Nepstad, Chief of Planning and Resource Management Apostle Islands National Lakeshore, Route 1, Box 4, Bayfield, WI 54814; telephone 715-779-3198, extension 102; or e-mail at apis_comments@nps.gov.

Dated: July 2, 2009.
David N. Given,
Acting Regional Director, Midwest Region.

[FR Doc. E9-21192 Filed 9-1-09; 8:45 am]

BILLING CODE P